DEPARTMENT OF THE INTERIOR

National Park Service

National Register of Historic Places; Notification of Pending Nominations and Related Actions

Nominations for the following properties being considered for listing or related actions in the National Register were received by the National Park Service before March 20th, 2010. Pursuant to § 60.13 of 36 CFR part 60 written comments concerning the significance of these properties under the National Register criteria for evaluation may be forwarded by United States Postal Service, to the National Register of Historic Places, National Park Service, 1849 C St., NW., 2280, Washington, DC 20240; by all other carriers, National Register of Historic Places, National Park Service, 1201 Eye St., NW., 8th floor, Washington, DC 20005; or by fax, 202-371-6447. Written or faxed comments should be submitted by April 22, 2010.

Before including your address, phone number, e-mail address, or other personal identifying information in your comment, you should be aware that your entire comment—including your personal identifying information—may be made publicly available at any time. While you can ask us in your comment to withhold your personal identifying information from public review, we cannot guarantee that we will be able to do so.

J. Paul Loether,
Chief, National Register of Historic Places/National Historic Landmarks Program.

ARKANSAS

Arkansas County

DeWitt Commercial Historic District, Roughly bounded by N. Washington, 2nd St., S. Adams and Gibson Ave., DeWitt, 10000213

Pulaski County

Oakland-Fraternal Cemetery, 2101 Barber St., Little Rock, 10000214

COLORADO

Denver County

Colorado National Bank Building, 918 17th St., Denver, 10000215

Morgan County

Lincoln School, 914 State St., Fort Morgan, 10000216

Routt County

Chamber of Commerce Building, 1201 Lincoln Ave, Steamboat Springs, 10000217

MAINE

Penobscot County

University of Maine Historic District Boundary Increase, Roughly bounded by the Mall, College Ave, lower Munson and Long Rds, Orono, 10000228

York County

Clifford, George F., House, 17 High Rd, Cornish, 10000230

MICHIGAN

Chippewa County

Adams Building, 418 Ashmun St., Sault Ste. Marie, 10000218

Gowan Block, 416 Ashmun St., Sault Ste. Marie, 10000219

Lenawee County

Clinton Downtown Historic District, 101-151 and 104-172 W. Michigan Ave. plus Memorial Park, Clinton, 10000220

MISSOURI

Boone County

West Broadway Historic District, 300-922 W. Broadway (except 800, 808, 812), Columbia, 10000221

NEW YORK

Broome County

Drovers Inn and Round Family Residence, 2 Pumphouse Rd and 301 Main St, Vestal, 10000222

Cayuga County

Owasco Reformed Church, 5105 Rte 38A (E. Lake Rd.), Owasco, 10000223

NEW YORK

Kings County

Temple Beth El of Borough Park, 4802 15th Ave, Brooklyn, 10000224

New York County

Elmendorf Reformed Church, 171 E. 121st St., New York, 10000225

Onondaga County

C.G. Meaker Food Company Warehouse, (Industrial Resources in the City of Syracuse, Onondaga County, NY MPS), 538 Erie Blvd. W., Syracuse, 10000226

Orange County

Lower Dock Hill Road Stone Arch Bridge (Stone Arch Bridges of the Village of Cornwall-on-Hudson, New York), Dock Hill Rd, Cornwall-on-Hudson, 10000227

Warren County

Gates Homestead, 4617 Lakeshore Dr. (NY 9N), Bolton, 10000229

SOUTH CAROLINA

Beaufort County

Fort Fremont Battery, Bay Point Rd., .3 mi. from Land's End Rd., St. Helena Island, 88001821

WISCONSIN

Dane County

McCormick-International Harvester Company Branch House, 301 South Blount St., Madison, 10000231

Portage County

Rosholt, John Gilbert, House, 327 N. Main St., Rosholt, 10000232

Request for REMOVAL has been made for the following resources:

MAINE

Franklin County

Farmington Historic District, Abbott, Jacob, House, Main St., Farmington, 7300103

Franklin County

Abbott, Jacob, House, Main St., Farmington, 94001551

Hancock County

Atlantic Schoolhouse, S. Side of Town Rd., Swan's Island, 95001547

OREGON

Curry County

Site 35-CU-156, Address Restricted, Brookings, 97001047

PENNSYLVANIA

Chester County

Bridge in New Garden Township, Landenberg Rd. over White Clay Creek, Landenberg, 88000804

[FR Doc. 2010-7835 Filed 4-6-10; 8:45 am]

BILLING CODE P